DEPARTMENT OF JUSTICE

Notice of Lodging of Consent Decree Under the Clean Air Act

Notice is hereby given that on May 31, 2012, a proposed Consent Decree in United States v. SABIC Innovative Plastics US LLC and SABIC Innovative Plastics Mt. Vernon, LLC , Civil Action No. 12-cv-00076, was lodged with the United States District Court for the Southern District of Indiana, Evansville Division.

In this action, the United States sought injunctive relief and civil penalties from SABIC Innovative Plastics US LLC and SABIC Innovative Plastics Mt. Vernon (“Defendants”) for violations of Section 112 of the Clean Air Act (“CAA”), 42 U.S.C. 7412, and the implementing regulations found at 40 CFR part 63, subparts F, G, and H (National Emission Standards for Organic Hazardous Air Pollutants from the Synthetic Organic Chemical Manufacturing Industry and Organic Hazardous Air Pollutants for Equipment Leaks). The violations alleged occurred at Defendants' chemical manufacturing plants located in Mt. Vernon, Indiana and Burkville, Alabama. The proposed Decree resolves the United States' claims against Defendants by requiring Defendants to implement an Enhanced Leak Detection and Repair Program to mitigate any potential excess emissions resulting from past CAA violations; implement controls on an API oil/water separator as additional injunctive relief; implement controls on certain process vents as a Supplemental Environmental Project, and pay a civil penalty in the amount of $1,012,873.

The Department of Justice will receive for a period of thirty (30) days from the date of this publication comments relating to this Consent Decree. Comments should be addressed to the Assistant Attorney General, Environment and Natural Resources Division, and either emailed to pubcomment-ees.enrd@usdoj.gov or mailed to P.O. Box 7611, U.S. Department of Justice, Washington, DC 20044-7611, and should refer to United States v. SABIC Innovative Plastics US LLC and SABIC Innovative Plastics Mt. Vernon, LLC, D.J. Ref. 90-5-2-1-09010.

During the public comment period, the Consent Decree may also be examined on the following Department of Justice Web site, http://www.usdoj.gov/enrd/Consent_ Decrees.html. A copy of the Consent Decree may also be obtained by mail from the Consent Decree Library, U.S. Department of Justice, P.O. Box 7611, Washington, DC 20044-7611 or by faxing or emailing a request to “Consent Decree Copy” (EESCDCopy.ENRD@usdoj.gov), fax number (202) 514-0097, phone confirmation number (202) 514-5271. If requesting a copy from the Consent Decree Library, please enclose a check in the amount of $19.75 (25 cents per page reproduction cost) payable to the U.S. Treasury or, if by email or fax, forward a check in that amount to the Consent Decree Library at the address given above.

Maureen Katz,
Assistant Chief, Environmental Enforcement Section, Environment and Natural Resources Division, United States Department of Justice.

[FR Doc. 2012-13887 Filed 6-7-12; 8:45 am]

BILLING CODE 4410-15-P